DEPARTMENT OF COMMERCE

National Oceanic and Atmospheric Administration

15 CFR Part 922

Boundary Expansion of Cordell Bank and Gulf of the Farallones National Marine Sanctuaries; Intent To Prepare Draft Environmental Impact Statement; Scoping Meetings

AGENCY: Office of National Marine Sanctuaries (ONMS), National Ocean Service (NOS), National Oceanic and Atmospheric Administration (NOAA), Department of Commerce (DOC).

ACTION: Notice of Intent to Consider Expanding Sanctuary Boundaries; Intent to Prepare Environmental Impact Statement; Scoping Meetings.

SUMMARY: With this notice, NOAA announces that it is considering whether to expand the boundaries of Cordell Bank and Gulf of the Farallones national marine sanctuaries. NOAA will conduct this review pursuant to section 304(e) of the National Marine Sanctuaries Act, as amended, (NMSA) (16 U.S.C. 1434(e)). As required by the NMSA, the review will include public processes outlined under the National Environmental Policy Act (NEPA; 42 U.S.C. 4321 et seq.). NOAA anticipates that the review and potential expansion of existing sanctuary boundaries will be completed within 18 to 24 months.

DATES: Comments must be received by March 1, 2013. Dates for scoping meetings are:

(1) January 24 2013 at the Bodega Bay Grange Hall.

(2) February 12, 2013 at the Gualala Community Center.

(3) February 13, 2013 at the Point Arena High School.

ADDRESSES: You may submit comments on this document, identified by NOAA-NOS-2012-0228, by any of the following methods:

• Electronic Submission: Submit all electronic public comments via the Federal e-Rulemaking Portal. Go to www.regulations.gov/#!docketDetail;D=NOAA-NOS-2012-0228, click the “Comment Now!” icon, complete the required fields, and enter or attach your comments.

• Mail: Maria Brown, Sanctuary Superintendent, Gulf of the Farallones National Marine Sanctuary, 991 Marine Drive, The Presidio, San Francisco, CA 94129.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous). Attachments to electronic comments will be accepted in Microsoft Word, Excel, or Adobe PDF file formats only.

FOR FURTHER INFORMATION CONTACT: Maria Brown at Maria.Brown@noaa.gov or 415-561-6622; or Dan Howard at Dan.Howard@noaa.gov or 415-663-0314.

SUPPLEMENTARY INFORMATION:

Background Information

Gulf of the Farallones National Marine Sanctuary (GFNMS), designated in 1981, and Cordell Bank National Marine Sanctuary (CBNMS), designated in 1989, are federally protected marine areas along and offshore of California's north-central coast. Centered along an important upwelling area, the sanctuaries are able to support important commercial and recreational fisheries, tourism and recreation industries, and coastal economies and communities. Sanctuary personnel contribute greatly to ocean and coastal management by engaging in public outreach and education to promote stewardship, conducting scientific and applied research initiatives, and developing and supporting programs that strengthen resource protection for the long-term health of the region.

NOAA is considering expansion of GFNMS and CBNMS to an area north of the existing sanctuaries that extends from Bodega Bay in Sonoma County, to Alder Creek in Mendocino County, and west to the edge of the continental shelf. This area encompasses the Point Arena upwelling center that consistently produces the most intense upwelling in all of North America.

The nutrients brought to the surface during upwelling events at Point Arena are carried south into the sanctuaries by the prevailing California Current; these nutrients fuel an incredibly productive ocean area protected by GFNMS and CBNMS. The sanctuaries are destination feeding areas for endangered blue whales and humpback whales, sharks, salmon, and seabirds like albatrosses and shearwaters that travel tens of thousands of miles. Food that results from the Point Arena upwelling center also supports the largest assemblage of breeding seabirds in the contiguous United States on the Farallon Islands. Living reefs of corals, sponges and a myriad of other invertebrates cover hard bottom areas and these sessile invertebrate communities are washed with food rich water from the north. These invertebrate reefs also provide structure and habitat for many species of juvenile and adult rockfish that prosper in these productive waters. Sanctuary waters also support valuable commercial fisheries for salmon and Dungeness crab. Local ports and coastal communities all derive socioeconomic benefits from these healthy ocean habitats. The rich diversity and health of this thriving marine ecosystem depends on the cold nutrient rich source water originating from the Point Arena upwelling center.

In 2008, the joint management plan review for CBNMS and GFNMS determined that managers in these sanctuaries would facilitate a public process in the next five years to ensure that “current boundaries were inclusive of the area's natural resource and ecological qualities, including the biogeographic representation of the area.” Sanctuary advisory councils from both sites have regularly discussed the boundary expansion alternative and have expressed support for boundary expansion when proposed by local congressional members.

In accordance with Section 304(e) of the NMSA, NOAA is now initiating a review of the boundaries for CBNMS and GFNMS to evaluate and assess a proposed expansion of the sanctuaries. As noted above, NOAA is considering extending the boundaries of the two sanctuaries to add the northern area from Bodega Bay, Sonoma County to Alder Creek, Mendocino County, and west to the edge of the continental shelf (for a map of the area considered and other relevant information, see http://farallones.noaa.gov/manage/northern_area.html). In doing so, NOAA is considering extending, and as necessary amending, the regulations and management plan for GFNMS and CBNMS to this area and is specifically requesting public comment on issues that would arise in doing so. This expansion would protect the upwelling source waters of the sanctuaries as well as nationally-significant seascapes, wildlife, and shipwrecks, and would promote ecotourism and sustainable fishing practices. Although no decision has been made yet regarding this possible action, expanded sanctuary boundaries could protect up to an additional 2,771 square statute miles.

Review Process

The review process for the proposed expansion of the sanctuary boundaries is composed of four stages:

1. Determine the scope of issues to be addressed and identify significant issues related to any proposed expansion;

2. Prepare and release a draft environmental impact statement (DEIS) that identifies boundary expansion alternatives, together with all other documents required by the NMSA including a resource assessment, revised management plans, and a notice of proposed rulemaking (NPRM) to amend the sanctuary regulations;

3. Allow public review and comment on the DEIS, NPRM, and related documents; and

4. Prepare and release a final environmental impact statement and related documents, including a response to public comments, with a final rule if appropriate.

NOAA anticipates that completing the review and process for potentially expanding sanctuary boundaries will take approximately 18-24 months.

At this time, NOAA is soliciting public comments to:

1. Gather information and comments from individuals, organizations, and government agencies on: (a) Whether NOAA should expand GFNMS and CBNMS boundaries; and (b) what, if any, potential effects might result from a boundary expansion; and

2. Help determine the scope of issues, including alternatives to be considered, in the preparation of an environmental impact statement (EIS) pursuant to the National Environmental Policy Act (NEPA) (43 U.S.C. 4321 et seq.), if warranted.

Public Scoping Meetings: NOAA intends to conduct a series of public scoping meetings to collect public comments. These meetings will be held on the following dates and at the following locations and times:

1. Bodega Bay, CA

Date: January 24, 2013.

Location: Bodega Bay Grange Hall.

Address: 1370 Bodega Avenue, Bodega Bay, CA 94923.

Time: 6 p.m.

2. Gualala, CA

Date: February 12, 2013.

Location: Gualala Community Center.

Address: 47950 Center Street, Gualala, CA 95445

Time: 6 p.m.

3. Pt. Arena, CA

Date: February 13, 2013.

Location: Point Arena High School.

Address: 185 Lake Street, Point Arena, CA 95468.

Time: 6 p.m.

Authority: 16 U.S.C. 1431 et seq.; 16 U.S.C. 470.

Dated: December 12, 2012.
Daniel J. Basta,
Director for the Office of National Marine Sanctuaries.

[FR Doc. 2012-30581 Filed 12-20-12; 8:45 am]

BILLING CODE 3510-NK-P